SECURITIES AND EXCHANGE COMMISSION

[File No. 500-1]

In the Matter of Safe Transportation Systems, Inc.,; Order of Suspension of Trading

January 19, 2006.

It appears to the Securities and Exchange Commission that there is a lack of current and accurate information concerning the securities of Safe Transportation Systems, Inc., because it is delinquent in its periodic filing obligations under Section 13(a) of the Securities Exchange Act of 1934, and Rules 13a-1 and 13a-13 thereunder, having not filed a periodic report since the period ending March 31, 2002.

The Commission is of the opinion that the public interest and the protection of investors require a suspension of trading in the securities of the above-listed company.

Therefore, it is ordered, pursuant to Section 12(k) of the Securities Exchange Act of 1934, that trading in securities of the above-listed company is suspended for the period from 9:30 a.m. EST on January 19, 2006, through 11:59 p.m. EST on February 1, 2006.

By the Commission.
Jill M. Peterson,
Assistant Secretary.

[FR Doc. 06-621 Filed 1-19-06; 11:26 am]

BILLING CODE 8010-01-P